DEPARTMENT OF ENERGY

Federal Energy Regulatory Commission

[Docket No. RP01-401-000]

Columbia Gas Transmission Corporation; Notice of Tariff Filing

May 7, 2001.

Take notice that on May 2, 2001, Columbia Gas Transmission Corporation (Columbia) tendered for filing as part of its FERC Gas Tariff, Second Revised Volume No. 1, original and revised tariff sheets, listed on Appendix A to the filing, bearing a proposed effective date of June 1, 2001. Columbia states that Sheet No. 30B is being filed pro forma. These tariff sheets are being filed to initiate new firm lateral-only transportation service under new Rate Schedule FTS-LAT.

Columbia states that it is proposing to establish Rate Schedule FTS-LAT to provide for firm transportation service on lateral facilities newly constructed for the benefit of a customer or customers. The rate schedule and tariff sheets being filed establish a tariff framework that will enable Columbia to construct and provide transportation service on discrete lateral facilities at incremental rates as requested by customers. The incremental rates for transportation service on a discrete lateral facilities when constructed will be filed and administered under the rate schedule framework proposed herein, including for Columbia's proposed Marcus Hook Lateral in a related certificate filing. Service on the new incrementally priced lateral facilities under Rate Schedule FTS-LAT will not include service under existing Columbia transportation rate schedules. Rate Schedule FTS-LAT is closely modeled after a similar lateral-only type service previously authorized by the Commission.

Columbia is also making conforming changes to its tariff to reflect the addition of this new rate schedule in its tariff.

Columbia states that copies of this filing have been mailed to all firm customers, interruptible customers, and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11890 Filed 5-10-01; 8:45 am]

BILLING CODE 6717-01-M